TENNESSEE VALLEY AUTHORITY

Sunshine Act Meeting

Agency Holding the Meeting: Tennessee Valley Authority (Meeting No. 1551).

Time and Date: 9 a.m. (c.d.t.), May 19, 2004. University of Mississippi, Gertrude C. Ford Center for the Performing Arts, 100 University Avenue, Oxford, Mississippi.

Status: Open.

Agenda

Approval of minutes of meeting held on March 16, 2004

New Business

F—Other

F1. Reservoir Operations Study Preferred Alternative

C—Energy

C1. Delegation of authority to the Executive Vice President, Fossil Power Group, to enter into a contract with Norfolk Southern Railway Company for transportation of coal to John Sevier Fossil Plant

C2. Contract with Forney Corporation for the supply of igniters, flame scanners, and associated equipment and services for various fossil plants

C3. Supplement to contract with Pascor Atlantic for disconnect switches

C4. Contract with Nextel South Corp. to provide enhanced specialized mobile radio equipment and services for various TVA locations

C5. Supplement to contract with PO DesMarais Company for instrumentation and controls at any TVA plant

C6. Supplement to contract with CitiCapital Leasing for TVA fleet leasing

C7. Supplement to contract with PricewaterhouseCoopers LLP for independent external auditing and financial services

E—Real Property Transactions

E1. Grant of a permanent easement to the state of Tennessee for a highway improvement project, without charge, except for TVA's administrative costs, affecting approximately .51 acre of land at TVA's Waynesboro Primary Substation in Wayne County, Tennessee, Tract No. XWBRSS-2H

E2. Grant of a permanent easement to the state of Tennessee for a highway and bridge improvement project, without charge, except for TVA's administrative costs, affecting approximately 2.6 acres of land on Nickajack Reservoir in Marion County, Tennessee, Tract No. XTNJR-20H

E3. Sale of a permanent easement for commercial recreation purposes to Wayne R. Strain, affecting approximately 6.3 acres of land on Kentucky Reservoir in Marshall County, Kentucky, Tract No. XGIR-941RE, to allow the continued operation of the Lakeside Campground and Marina, a portion of which is located on TVA land

E4. Grant of a 30-year term public recreation easement to Decatur County, Tennessee, for use as a public park, without charge, with conditional option for renewals, affecting approximately 25.61 acres of land on Kentucky Reservoir in Decatur County, Tennessee, Tract No. XTGIR-153RE

E5. Abandonment of certain transmission line easement rights affecting approximately 9.14 acres, Tract No. WG-62, to the Industrial Development Board of the City of Decatur, Alabama, in exchange for transmission line easement rights affecting approximately 4.6 acres in Morgan County, Alabama, Tract No. MECGM-3

F—Other

F2. Approval to file a condemnation case to acquire a temporary right to enter to survey, appraise, and perform title investigations and related activities for a TVA power transmission line project affecting the Waynesboro-Clifton City 69-kV transmission line in Wayne County, Tennessee, Tract Nos. 3WCJR-1000TE and -1001TE

Information Items

1. Approval of a supplement to Contract No. 99998999 with G-UB-MK Constructors

2. Approval of the retention of net power proceeds and nonpower proceeds pursuant to section 26 of the TVA Act and of payment to the U.S. Treasury in accordance with Public Law No. 98-151

3. Designation and selection of Barclays Global Investors, N.A., as a new investment manager for the TVA Retirement System and investment management agreement between the Retirement System and the new investment manager

4. Designation and selection of Bridgewater Associates, Inc., and IronBridge Capital Management, LLC, as new investment managers for the TVA Retirement System and approval of the investment management agreements between the Retirement System and the new investment managers

5. Approval of Two-Part Real Time Pricing pilot arrangements with Eka Chemicals, Inc.

6. Approval of a supplement to a contract with Southern Cross Resources Australia Pty, Ltd., for the supply of uranium

7. Approval of a contract with the United States Enrichment Corporation for uranium enrichment and enriched uranium for Browns Ferry Nuclear Plant

8. Approval of a supplement to the contract with Chem-Nuclear Systems for burial of radioactive waste at the Barnwell facility in South Carolina

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: May 12, 2004.
Maureen H. Dunn,
General Counsel and Secretary.

[FR Doc. 04-11189 Filed 5-13-04; 11:03 am]

BILLING CODE 8120-08-P